DEPARTMENT OF THE INTERIOR

Bureau of Safety and Environmental Enforcement

30 CFR Part 250

[Docket ID: BSEE-2021-0003; EEEE500000245E1700D2 ET1SF0000.EAQ000]

RIN 1014-AA49

Oil and Gas and Sulfur Operations in the Outer Continental Shelf—High Pressure High Temperature Updates; Correction

AGENCY: Bureau of Safety and Environmental Enforcement (BSEE), Interior.

ACTION: Final rule; correction.

SUMMARY: BSEE is correcting a final rule that appeared in the Federal Register on August 30, 2024. BSEE is publishing a correction to fix an erroneous statement in the preamble of the final rule. BSEE inadvertently stated it did not receive public comments to an identified section of the rule. However, BSEE had received a comment associated with that section of the rule. BSEE evaluated and addressed that comment in other discussions in the preamble of the final rule.

DATES: Effective October 25, 2024.

FOR FURTHER INFORMATION CONTACT: Kirk Malstrom, Regulations and Standards Branch, (202) 258-1518, or by email: regs@bsee.gov.

SUPPLEMENTARY INFORMATION: In FR Doc. 2024-18598 appearing on page 71088 in the Federal Register of Friday, August 30, 2024, the following corrections to the preamble are made:

1. Under the heading “How must barrier systems be used (§ 250.207)”, which begins near the bottom of the third column on page 71087, the text under the subheading “Summary of Final Rule Revisions”, which begins near the top of the first column on page 71088, is corrected to read:

BSEE received and considered a comment regarding proposed § 250.207 and includes the proposed language in the final rule without change.

Summary of Comment: A commenter expressed concerns with the applicability of this section to existing blowout preventer barrier system requirements and asked if new and unusual technology can be a barrier. The commenter also suggested that BSEE include capabilities for one specific type of barrier that can shear and seal pipe used for certain well operations.

Response: As discussed in this section and other sections of the final rule preamble, this section would not alter or impact any existing regulations (see summary of proposed rule revisions for this section). BSEE also stated that the New or Unusual Technology Barrier Equipment Conceptual Plan requirements apply to new or unusual technology “that is identified” as barrier equipment (see final rule preamble section III for § 250.201). Operators that use new or unusual technology identified as a barrier must comply with the applicable requirements of this final rule (e.g., see §§ 250.201, 250.207, and 250.229). BSEE disagrees that changes to this section are necessary. This section does not identify any specific types of barriers, and BSEE's intent is not to limit the use of new or unusual technology by including specific operating capabilities that may not be applicable to all barriers (see final rule preamble section III for § 250.206).

This action by the Principal Deputy Assistant Secretary is taken pursuant to an existing delegation of authority.

Steven H. Feldgus,
Principal Deputy Assistant Secretary, Land and Minerals Management.

[FR Doc. 2024-24783 Filed 10-24-24; 8:45 am]

BILLING CODE P